DEPARTMENT OF TRANSPORTATION

Federal Aviation Administration

14 CFR Part 39

[Docket No. 2003-NM-123-AD; Amendment 39-14920; AD 2007-03-09]

RIN 2120-AA64

Airworthiness Directives; Airbus Model A300 Airplanes; Model A300 B4-601, B4-603, B4-620, B4-622, B4-605R, B4-622R, F4-605R, F4-622R, and C4-605R Variant F Airplanes (Collectively Called A300-600 Series Airplanes); and Model A310 Airplanes

AGENCY: Federal Aviation Administration, DOT.

ACTION: Final rule.

SUMMARY: This amendment adopts a new airworthiness directive (AD), applicable to all of the airplanes identified above, that requires revising the FAA-approved maintenance program to include a new airplane maintenance manual task that specifies a detailed inspection after each ram air turbine (RAT) retraction. This AD also requires, for certain airplanes, a one-time inspection to detect breaks in the bottom flange fitting of the RAT and corrective actions, if necessary; for certain airplanes, an adjustment of the ejection jack; and, for certain other airplanes, replacement of the aluminum part with an improved steel part. The actions specified by this AD are intended to prevent failure of the RAT yoke fitting, which could result in the loss of RAT function and possible loss of critical flight control in the event of certain emergency situations. This action is intended to address the identified unsafe condition.

DATES: Effective March 12, 2007.

The incorporation by reference of certain publications listed in the regulations is approved by the Director of the Federal Register as of March 12, 2007.

ADDRESSES: The service information referenced in this AD may be obtained from Airbus, 1 Rond Point Maurice Bellonte, 31707 Blagnac Cedex, France. This information may be examined at the Federal Aviation Administration (FAA), Transport Airplane Directorate, Rules Docket, 1601 Lind Avenue, SW., Renton, Washington.

FOR FURTHER INFORMATION CONTACT: Tim Backman, Aerospace Engineer, International Branch, ANM-116, FAA, Transport Airplane Directorate, 1601 Lind Avenue, SW., Renton, Washington 98057-3356; telephone (425) 227-2797; fax (425) 227-1149.

SUPPLEMENTARY INFORMATION: A proposal to amend part 39 of the Federal Aviation Regulations (14 CFR part 39) to include an airworthiness directive (AD) that is applicable to Airbus Model A300 airplanes; Model A300 B4-601, B4-603, B4-620, B4-622, B4-605R, B4-622R, F4-605R, F4-622R, and C4-605R Variant F series airplanes (collectively called A300-600 series airplanes); and Model A310 airplanes was published as a supplemental notice of proposed rulemaking (NPRM) in the Federal Register on May 9, 2006 (71 FR 26884). That action proposed to require revising the FAA-approved maintenance program to include a new airplane maintenance manual task that specifies a detailed inspection after each ram air turbine (RAT) extension. That action also proposed to require a one-time inspection to detect breaks in the bottom flange fitting of the RAT and corrective actions, if necessary; for certain airplanes, an adjustment of the ejection jack; and, for certain other airplanes, replacement of the aluminum part with an improved steel part.

Comments

Interested persons have been afforded an opportunity to participate in the making of this amendment. Due consideration has been given to the comments received.

Request To Remove Airplanes From Requirement To Do Detailed Inspection

Airbus requests that we remove Model A300 airplanes from the “effectivity” of paragraph (a) of the supplemental NPRM, which specifies a detailed inspection for breaks of the bottom flange fitting of the yoke fitting for the RAT swivel coupling, and replacement if necessary. Airbus states that all Model A300-B2 and -B4 airplanes are equipped with Dowty RATs that have swivel coupling yoke fittings. The Dowty fittings are to be replaced in accordance with Airbus Service Bulletin A300-57-0244, dated March 4, 2005. That action is specified in paragraph (b) of the Supplemental NPRM. Airbus states that the FAA should specify that these airplanes are to use the up-to-date requirements of French airworthiness directives F-2005-089, dated June 8, 2005; and F-2005-090 R1, dated July 6, 2005.

We agree with removing Model A300 airplanes from paragraph (a) of the AD. Airbus and the European Aviation Safety Agency (EASA) have assessed the risk based on worldwide fleet reports and decided that the necessary actions are those in Airbus Service Bulletin A300-57-0244, which specifies replacing the RAT swivel fitting. We have revised the AD by removing the reference to Model A300 airplanes in paragraph (a), deleting sub-paragraph (a)(1), and re-numbering the subsequent sub-paragraphs accordingly.

Request To Change References to RAT Extension

Airbus also points out that the revision to the FAA-approved maintenance program to specify an inspection for breaks of the bottom flange of the RAT swivel coupling yoke fitting after each RAT extension that is specified in the supplemental NPRM should instead specify an inspection after each RAT retraction. Airbus states that changing the wording in the supplemental NPRM would be consistent with Airbus and EASA documentation.

We agree with the request to change “extension” to “retraction” in the AD. The inspection should be done after the extension-retraction cycle rather than after each RAT extension. We have revised paragraph (c) and the Summary of the AD accordingly.

Request To Eliminate Reference to French Airworthiness Directive

Airbus also requests that we remove the reference to French airworthiness directive F-2003-149 R1, dated June 8, 2005, which is included in Note 5 of the supplemental NPRM. Airbus states that the one-time inspection in French airworthiness directive F-2003-149 R1 is completed, and this AD should mandate the up-to-date requirements by following the actions in French airworthiness directives F-2005-089 and F-2005-090 R1. These airworthiness directives refer to the airplane maintenance manual (AMM) sections for inspections following each retraction.

We agree with the request to remove the reference to French airworthiness directive F-2003-149 R1. Based on the fleet results obtained by Airbus and EASA in response to that airworthiness directive, the necessary corrective actions have been decided and are mandated through French airworthiness directives F-2005-089 and F-2005-090 R1. We have changed Note 4 of this AD to remove the reference to French airworthiness directive F-2003-149 R1.

Request To Clarify Credit Statement

Airbus also requests that we change paragraph (d) of the supplemental NPRM, “Credit for Actions Accomplished Previously,” regarding credit. Paragraph (d) states that actions done in accordance with Airbus All Operator's Telexes (AOTs) 57A6096 and 57A2085, both dated March 6, 2003, are acceptable for compliance with the corresponding actions in paragraph (a) of the supplemental NPRM. Airbus points out that only Revision 01 of the same AOTs (both dated April 11, 2005) are acceptable because only those revisions take into account the complementary investigations that identify the RAT swivel fitting failure and the corresponding corrective actions.

We agree that only Revisions 01 of Airbus A300-600 AOT 57A6096 and Airbus A310 AOT 57A2085 take into account the complementary investigations that identify the RAT swivel fitting failure and the corresponding corrective actions. Operators that did the actions in the original issues of the AOTs must verify the adjustment of the ejection jack and correct the adjustment, as applicable, in accordance with Revision 01 of the AOTs. Therefore, we have removed paragraph (d) of the supplemental NPRM, and re-lettered the subsequent paragraphs in the AD accordingly.

Request To Refer to AMM

TradeWinds Airlines states that paragraph (c)(3) of the supplemental NPRM should not specify Airbus Temporary Revision (TR) 29-015, dated April 12, 2005, but instead should refer to Airbus A300 AMM Chapter 29-25-00, Page Block 301, dated March 1, 2006. TradeWinds states that TR 29-015 contains instructions only for certain Model A300 airplanes. For other Model A300 airplanes, the instructions are in a different TR. Therefore, TradeWinds requests that we refer to Airbus A300 AMM Chapter 29-25-00 in paragraph (c)(3) of the supplemental NPRM, and that we also remove Note 3 of the supplemental NPRM, which refers to TR 29-015.

We agree with the request to revise paragraph (c)(3) of this AD and remove Note 3 of the supplemental NPRM. Airbus confirms that the TR references are assigned within a given code to a specific operator; therefore, the TR number may vary for different operators. Therefore, we have revised this AD as follows: We changed paragraph (c)(3) of the AD to refer to Airbus A300 AMM Chapter 29-25-00, Page Block 301, dated March 1, 2006; revised paragraph (c) to remove the reference to the TR; removed Note 3; and renumbered the subsequent notes accordingly.

Request To Change Reference to Aluminum Part

TradeWinds Airlines also requests that we change paragraph (c) of the supplemental NPRM to specify replacing the RAT swivel coupling yoke fitting with a new steel part rather than with a new aluminum part. TradeWinds points out that paragraph (b) of the supplemental NPRM mandates replacing the aluminum fitting with a steel fitting.

We partially agree with TradeWinds. We agree that the paragraph should refer to the steel fitting. We disagree with removing the reference to the aluminum fitting. Paragraph (c) of this AD applies to airplanes with either a Dowty or a Hamilton Sundstrand RAT. Paragraph (b) of this AD applies only to airplanes with Dowty RATs. Discrepant Hamilton Sundstrand RATs can be replaced with either an aluminum part or a steel part. Therefore, we have revised paragraph (c) of the AD to specify replacing the part with a new aluminum or steel part, as applicable.

Explanation of Additional Changes to This AD

Paragraph (c) of the supplemental NPRM specifies making repairs using a method approved by either the FAA or the Direction GOrale de l'Aviation Civile (DGAC) (or its delegated agent). The European Aviation Safety Agency (EASA) has assumed responsibility for the airplane models subject to this AD. Therefore, we have revised paragraph (c) of this AD to specify making repairs using a method approved by the FAA, the DGAC (or its delegated agent), or the EASA (or its delegated agent).

We have clarified the applicability to include the words “all” in the following statement: “Applicability: All Model A300 airplanes; Model A300 B4-601, B4-603, B4-620, B4-622, B4-605R, B4-622R, F4-605R, F4-622R, and C4-605R Variant F airplanes; and Model A310 airplanes; certificated in any category.”

Conclusion

After careful review of the available data, including the comments noted above, the FAA has determined that air safety and the public interest require the adoption of the rule with the changes described previously. The FAA has determined that these changes will neither increase the economic burden on any operator nor increase the scope of the AD.

Cost Impact

The following table provides the estimated costs for U.S. operators to comply with this AD. There are approximately 165 airplanes of U.S. registry that are affected by this AD.

Estimated Costs
Action | Work hours | Average labor rate per hour | Parts | Cost per airplane | Fleet cost
Detailed Inspection | 1 | $80 | $0 | $80 | $13,200
AMM Revision | 1 | 80 | 0 | 80 | 13,200
Replacement with Steel Fork Fitting | 6 | 80 | 470 | 950 | 156,750

The cost impact figure discussed above is based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) Is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2007-03-09 Airbus: Amendment 39-14920. Docket 2003-NM-123-AD.

Applicability: All Model A300 airplanes; Model A300 B4-601, B4-603, B4-620, B4-622, B4-605R, B4-622R, F4-605R, F4-622R, and C4-605R Variant F airplanes; and Model A310 airplanes; certificated in any category.

Compliance: Required as indicated, unless accomplished previously.

To prevent failure of the ram air turbine (RAT) yoke fitting, which could result in the loss of RAT function and possible loss of critical flight control in the event of certain emergency situations, accomplish the following:

Detailed Inspection and Replacement

(a) For Model A300-600 series airplanes, and Model A310 airplanes: Within 1,300 flight hours or 6 months after the effective date of this AD, whichever occurs first, do a detailed inspection for breaks of the bottom flange fitting of the yoke fitting for the RAT swivel coupling in accordance with the applicable all operators telex (AOT) in paragraph (a)(1) or (a)(2) of this AD. If the flange fitting is broken, before further flight, replace the flange fitting with a new flange fitting in accordance with the applicable AOT. For airplanes equipped with Hamilton Sundstrand RATs, verify the adjustment of the ejection jack, and correct the adjustment as applicable.

(1) For Model A300-600 series airplanes: Airbus A300-600 AOT 57A6096, Revision 01, dated April 11, 2005.

(2) For Model A310 airplanes: Airbus A310 AOT 57A2085, Revision 01, dated April 11, 2005.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(b) For Model A300 airplanes, Model A300-600 series airplanes, and Model A310 airplanes equipped with Dowty Rotol RATs, except airplanes on which Airbus Modification 12986 has been done: Within 12 months after the effective date of this AD, replace the RAT swivel coupling fork fitting with a new steel fitting, in accordance with the Accomplishment Instructions of Airbus Service Bulletin A300-57-0244, dated March 4, 2005 (for Model A300 airplanes); A300-57-6099, dated February 23, 2005 (for Model A300-600 series airplanes); or A310-57-2086, dated March 1, 2005 (for Model A310 airplanes); as applicable.

Revisions

(c) For all airplanes: Within 3 months after the effective date of this AD: Incorporate the information in the applicable aircraft maintenance manual (AMM) specified in paragraphs (c)(1), (c)(2), and (c)(3) of this AD, into the FAA-approved maintenance program to specify an inspection for breaks of the bottom flange of the RAT swivel coupling yoke fitting after each RAT retraction; and replacement of the RAT swivel coupling yoke fitting with a new aluminum or steel part as applicable; in accordance with a method approved by the Manager, International Branch, ANM-116, Transport Airplane Directorate, FAA; or the Direction Générale de l'Aviation Civile (or its delegated agent); or European Aviation Safety Agency (or its delegated agent). The page blocks specified in paragraphs (c)(1), (c)(2), and (c)(3) of this AD, as applicable, are one approved method for the actions required by paragraph (c) of this AD. Thereafter, except as provided by paragraph (d) of this AD, no alternative inspection intervals may be approved for the bottom flange of the RAT swivel coupling yoke fitting.

(1) Airbus A300-600 AMM, Chapter 29-25-00, Page Block 301, dated June 1, 2005.

(2) Airbus A310 AMM, Chapter 29-25-00, Page Block 301, dated June 1, 2005.

(3) Airbus A300 AMM Chapter 29-25-00, Page Block 301, dated March 1, 2006.

Note 2: After revising the maintenance program to include the required periodic inspections according to this paragraph, operators do not need to make a maintenance log entry to show compliance with this AD every time those inspections are accomplished thereafter.

Note 3: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to paragraph (d) of this AD. The request should include a description of changes to the required inspections that will ensure the continued damage tolerance of the affected structure. The FAA has provided guidance for this determination in Advisory Circular (AC) 25-1529-1.

Alternative Methods of Compliance

(d)(1) In accordance with 14 CFR 39.19, the Manager, International Branch, ANM-116, is authorized to approve alternative methods of compliance for this AD.

(2) Before using any AMOC approved in accordance with § 39.19 on any airplane to which the AMOC applies, notify the appropriate principal inspector in the FAA Flight Standards Certificate Holding District Office.

Note 4: The subject of this AD is addressed in French airworthiness directives F-2005-089, dated June 8, 2005; and F-2005-090 R1, dated July 6, 2005.

Incorporation by Reference

(e) Unless otherwise specified in this AD, the actions must be done in accordance with the applicable service information specified in Table 1 of this AD. This incorporation by reference was approved by the Director of the Federal Register in accordance with 5 U.S.C. 552(a) and 1 CFR part 51. To get copies of this service information, contact Airbus, 1 Rond Point Maurice Bellonte, 31707 Blagnac Cedex, France. To inspect copies of this service information, go to the FAA, Transport Airplane Directorate, 1601 Lind Avenue, SW., Renton, Washington; or to the National Archives and Records Administration (NARA). For information on the availability of this material at the NARA, call (202) 741-6030, or go to http://www.archives.gov/federal_register/code_of_federal_regulations/ibr_locations.html.

Table 1.—Material Incorporated by Reference
Service information | Revision level | Date
Airbus A300-600 All Operators Telex 57A6096 | 01 | April 11, 2005.
Airbus A310 All Operators Telex 57A2085 | 01 | April 11, 2005.
Airbus Service Bulletin A300-57-0244 | Original | March 4, 2005.
Airbus Service Bulletin A300-57-6099 | Original | February 23, 2005.
Airbus Service Bulletin A310-57-2086 | Original | March 1, 2005.

Effective Date

(f) This amendment becomes effective on March 12, 2007.

Issued in Renton, Washington, on January 24, 2007.
Ali Bahrami,
Manager, Transport Airplane Directorate, Aircraft Certification Service.

[FR Doc. E7-1601 Filed 2-2-07; 8:45 am]

BILLING CODE 4910-13-P